DEPARTMENT OF JUSTICE

Antitrust Division

Notice Pursuant to the National Cooperative Research and Production Act of 1993—Advanced Media Workflow Association, Inc.

Notice is hereby given that, on December 23, 2015, pursuant to section 6(a) of the National Cooperative Research and Production Act of 1993, 15 U.S.C. 4301 et seq. (“the Act”), Advanced Media Workflow Association, Inc. has filed written notifications simultaneously with the Attorney General and the Federal Trade Commission disclosing changes in its membership. The notifications were filed for the purpose of extending the Act's provisions limiting the recovery of antitrust plaintiffs to actual damages under specified circumstances. Specifically, Aperi Corporation, Camarillo, CA; Atos, London, UNITED KINGDOM; Axon Digital Design, B.V., Gilze, THE NETHERLANDS; Barco Silex, Louvain-La-Neuve, BELGIUM; Embrionix Design, Inc., Laval, Quebec, CANADA; Evertz Microsystems, Burlington, Ontario, CANADA; Lawo AG, Rastati, GERMANY; Malooba, Launceston, UNITED KINGDOM; Matrox Electronic Systems, Dorval, Quebec, CANADA; Mellanox Technologies, Inc., Sunnyvale, CA; Nevion Unlimited, Theale, UNITED KINGDOM; NewTek, Inc., San Antonio, TX; NRK, Oslo, NORWAY; Panasonic Corporation, Osaka, JAPAN; Suitcase TV Ltd., Ipswich, UNITED KINGDOM; UR Sveriges Utbildningsradio AB, Stockholm, SWEDEN; and Christine MacNeill (individual member), Achnasheen, UNITED KINGDOM, have been added as parties to this venture.

Also, Rohde & Schwarz DVS GmbH, Hanover, GERMANY; and Savis Vietnam Corp., Hanoi, VIETNAM, have withdrawn as parties to this venture.

No other changes have been made in either the membership or planned activity of the group research project. Membership in this group research project remains open, and Advanced Media Workflow Association, Inc. intends to file additional written notifications disclosing all changes in membership.

On March 28, 2000, Advanced Media Workflow Association, Inc. filed its original notification pursuant to section 6(a) of the Act. The Department of Justice published a notice in the Federal Register pursuant to section 6(b) of the Act on June 29, 2000 (65 FR 40127).

The last notification was filed with the Department on September 24, 2015. A notice was published in the Federal Register pursuant to section 6(b) of the Act on October 23, 2015 (80 FR 64448).

Patricia A. Brink,
Director of Civil Enforcement, Antitrust Division.

[FR Doc. 2016-01261 Filed 1-21-16; 8:45 am]

BILLING CODE P